ENVIRONMENTAL PROTECTION AGENCY

[EPA-HQ-OPPT-2003-0004; FRL-11797-01-OCSPP]

Access to Confidential Business Information by ICF Inc and Its Subcontractors

AGENCY: Environmental Protection Agency (EPA).

ACTION: Notice.

SUMMARY: EPA has authorized its contractor ICF Inc of 9300 Lee Highway Fairfax, VA 22031, and its subcontractors to access information which has been submitted to EPA under all sections of the Toxic Substances Control Act (TSCA). Some of the information may be claimed or determined to be Confidential Business Information (CBI).

DATES: Access to the confidential data will occur after March 15, 2024.

ADDRESSES: Submit your comments, identified by docket identification (ID) number EPA-HQ-OPPT-2003-0004, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information contact: Colby Lintner/Adam Schwoerer, Program Management and Operations Division (7407M), Office of Pollution Prevention and Toxics, Environmental Protection Agency, 1200 Pennsylvania Ave. NW, Washington, DC 20460-0001; telephone number: (202) 564-8182; email address: lintner.colby@epa.gov or (202) 564-4767; schwoerer.adam@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Because other entities may also be interested, the Agency has not attempted to describe all the specific entities that may be affected by this action.

B. How can I get copies of this document and other related information?

The docket for this action, identified by docket identification (ID) number EPA-HQ-OPPT-2003-0004, is available at https://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. For the latest status information on EPA/DC services and docket access, visit https://www.epa.gov/dockets.

II. What action is the Agency taking?

Under contract number 68HERC23D0007, ICF Inc., and its subcontractors will provide support for Chemical Screening, Review, and Evaluation of New, Existing, and Safer Choice Chemical Substances in accordance with the Performance Work Statement which are vital to Agency personnel to make informed decisions on environmental issues and other information that maybe claimed as TSCA CBI in accordance with the TSCA Security Manual.

In accordance with 40 CFR 2.306(j), EPA has determined that under EPA contract number 68HERC23D0007, ICF Inc., and its subcontractors will require access to CBI submitted under all Sections of TSCA to perform successfully the duties specified under the contract. ICF Inc. and its subcontractors: Personnel will be given access to information claimed or determined to be CBI information submitted to EPA under all sections of TSCA.

EPA is issuing this notice to inform all submitters of information under all sections of TSCA that EPA will provide the herein identified contractor and its subcontractors with access to the CBI materials on a need-to-know basis only. All access to TSCA CBI under this contract, in accordance with EPA's TSCA CBI Protection Manual and the Rules of Behavior for Virtual Desktop Access to OPPT Materials, including TSCA CBI, will take place at EPA Headquarters, and/or at the following facilities of the contractor and/or subcontractors:

• ATL International, Inc.; 555 Quince Orchard Rd., Suite 500, Gaithersburg, MD 20878-1461.

• Colehour & Cohen, Inc.; 1011 Western Ave., Suite 702, Seattle, WA 98104.

• Sacoby Wilson, Ph.D.; MS Maryland Institute for Applied Environmental Health, School of Public Health, University of Maryland-College Park.

• Integrated Laboratory Systems, an Inotiv Company; P.O. Box 13501, Research Triangle Park, NC 27709.

• Innovate! Inc.; 6189 Cobbs Rd., Alexandria, VA 22310.

• Neptune and Company, Inc.; 1435 Garrison St., Suite 201, Lakewood, CO 80215.

• Pradeep Rajan, LLC; 2006 Camden Ln., Chapel Hill, NC 27516.

• Sagenita Limited, Harston Mill Royston Rd., Harston Cambridge, UK CB22 7GG.

• SC&A, Inc.; 2200 Wilson Blvd., Suite 300, Arlington, VA 22201.

• Sixth Sense Safety Solutions; 1365 Bertram St., Rogers City, Michigan 49779-1101.

Access to TSCA data, including CBI, will continue until November 30, 2027. If the contract is extended, this access will also continue for the duration of the extended contract without further notice.

The personnel of the contractor and subcontractors will be required to sign nondisclosure agreements and will be briefed on specific security procedures for TSCA CBI.

Authority: 15 U.S.C. 2601 et seq.

Dated: March 11, 2024.
Pamela Myrick,
Director, Project Management and Operations Division, Office of Pollution Prevention and Toxics.

[FR Doc. 2024-05488 Filed 3-14-24; 8:45 am]

BILLING CODE 6560-50-P